DEPARTMENT OF JUSTICE

Antitrust Division

Notice Pursuant to the National Cooperative Research and Production Act of 1993—The Customer Experience Hub

Notice is hereby given that, on October 2, 2025, pursuant to section 6(a) of the National Cooperative Research and Production Act of 1993, 15 U.S.C. 4301 et seq. (“the Act”), The Customer Experience Hub (“CX Hub”) has filed written notifications simultaneously with the Attorney General and the Federal Trade Commission disclosing changes in its membership. The notifications were filed for the purpose of extending the Act's provisions limiting the recovery of antitrust plaintiffs to actual damages under specified circumstances.

Specifically, Analyticon Discovery, LLC, Gaithersburg, MD; Antheia, INC, Menlo Park, CA; Bifrost Biosystems INC, Berkeley, CA; CD Biosciences INC, Shirley, NY; Cosmosid, INC, Rockville, MD; Defense Operations & Execution Solutions INC, W Melbourne, FL; Diagmetrics Inc., Madison, CT; Dnanexus, Inc., Mountain View, CA; Eastern Research Group INC, Concord, MA; eDNAtec, Inc., St. John's, CANADA; Elixia Health, Hollywood, FL; Federal University of Health Sciences Ila Orangun, Ila Orangun, FEDERAL REPUBLIC OF NIGERIA; FiteBac Technology, Marietta, GA; Hexagon Bio, Inc., Menlo Park, CA; Isomerase Therapeutics Ltd., Cambridge, UNITED KINGDOM; Jonah Ventures, LLC, Boulder, CO; Katz Water Technologies, Inc., Houston, TX; Luminary Labs LLC, New York, NY; Mycostories Ltd., London, UNITED KINGDOM; Oneida Technology Services LLC, Milwaukee, WI; Pittsburgh Life Science Alliance, Pittsburgh, PA; Plasmidsaurus Inc., Arcadia, CA; Psomagen INC, Rockville, MD; Recursion Charitable Foundation dba Altitude Lab, Salt Lake City, UT; Regents of the University of California, The, Berkeley, CA; Senphonix, INC, North Oaks, MN; Sgs North America Inc., Bloomfield, NJ; Sun Vectors, Inc., San Diego, CA; Terra Bioworks INC, Middleton, WI; Tetra Tech INC, Chantilly, VA; The Two Frontiers Project, Inc., Fort Collins, CO; University of California, San Diego, La Jolla, CA; University of Wisconsin System, Madison, WI; X Prize Foundation, Inc., Frisco, TX; and Zymo Research Corporation, Irvine, CA have been added as parties to this venture.

No other changes have been made in either the membership or planned activity of the group research project. Membership in this group research project remains open, and the CX Hub intends to file additional written notifications disclosing all changes in membership.

On January 11, 2024, the CX Hub filed its original notification pursuant to section 6(a) of the Act. The Department of Justice published a notice in the Federal Register pursuant to section 6(b) of the Act on April 16, 2024 (89 FR 26929).

The last notification was filed with the Department on July 1, 2025. A notice was published in the Federal Register pursuant to section 6(b) of the Act on January 2, 2026 (91 FR 163).

Suzanne Morris,
Deputy Director Civil Enforcement Operations, Antitrust Division.

[FR Doc. 2026-03537 Filed 2-20-26; 8:45 am]

BILLING CODE P